DEPARTMENT OF DEFENSE

Office of the Secretary

Notice of Availability of the Supplemental Environmental Assessment for the Pentagon Memorial

AGENCY: Washington Headquarters Services, DoD.

ACTION: Notice of availability.

SUMMARY: The Department of Defense (DoD) Washington Headquarters Services (WHS) announces that a Supplemental Environmental Assessment (SEA) for the Pentagon Memorial is available for public review and comment within 30 days of the date of this publication. The Memorial is planned for the Pentagon Reservation.

The SEA documents an evaluation of the environmental effects of the proposed Memorial in accord with the National Environmental Policy Act of 1969, as amended (NEPA, 42 U.S.C. 4321 to 4370b), Council of Environmental Quality (CEQ) implementing regulations (Title 40 Code of Federal Regulations, Parts 1500-1508), and DoD Instruction 4715.9, Environmental Planning and Analysis. The SEA is tiered to the Pentagon Reservation Master Plan Final Report of May 28, 1991 and the Final Environmental Assessment of May 28, 1991, developed for the comprehensive renovation of the Pentagon. The SEA identifies the purpose and need for the proposed action, alternative analysis of potential sites, and environmental consequences of the proposed action. Environmental consequences examined include potential impacts on air quality, noise, hazardous materials, natural/ecological features, land use and socio-economics, transportation, urban systems, and cultural resources.

The proposed action associated with the Pentagon Memorial involves construction of a Memorial Park commemorating the September 11, 2001 terrorist attack on the Pentagon and the 184 lives lost in the Pentagon and on American Airlines Flight 77. The proposed action, as directed by Congress, will be constructed within the limits of the Pentagon Reservation.

The SEA is available on the Internet at http://memorial.pentagon.mil/

For those with access or escort, copies are also available in the FOB2 Building Managers Office, Room 1030, and in the Pentagon Library Reference Center on the Pentagon Concourse.

DATES: Public comments are invited and must be either e-mailed or postmarked on or before June 13, 2003.

ADDRESSES: To request a copy of the SEA or provide comments, contact Michael Yopp at telephone: 703-693-8954, e-mail: yoppm@army.pentagon.mil, or mail: Pentagon Renovation Program, 100 Boundary Channel Drive, Arlington, VA 22202. Individuals also may download the SEA from the Web site.

FOR FURTHER INFORMATION CONTACT: For additional information on the SEA, contact Michael Yopp at telephone: 703-693-8954, or e-mail: yoppm@army.pentagon.mil.

Dated: May 7, 2003.
Patricia L. Toppings,
Alternate OSD Federal Register Liaison Officer, Department of Defense.

[FR Doc. 03-11971 Filed 5-13-03; 8:45 am]

BILLING CODE 5001-08-M